DEPARTMENT OF TRANSPORTATION

Federal Aviation Administration

14 CFR Part 39

[Docket No. FAA-2019-0192; Product Identifier 2019-NM-004-AD; Amendment 39-19692; AD 2019-14-14]

RIN 2120-AA64

Airworthiness Directives; Airbus SAS Airplanes

AGENCY: Federal Aviation Administration (FAA), Department of Transportation (DOT).

ACTION: Final rule.

SUMMARY: The FAA is adopting a new airworthiness directive (AD) for all Airbus SAS Model A300 B4-600, B4-600R, and F4-600R series airplanes, and Model A300 C4-605R Variant F airplanes (collectively called Model A300-600 series airplanes); and Model A310 series airplanes. This AD was prompted by a determination that a certain aircraft maintenance manual (AMM) task provided instructions for a visual inspection of composite and metallic vertical tailplane (VTP) attachment fittings, but the inspection method did not specify detection of delamination length, which could possibly extend beyond the defined allowable limits. This AD requires a review of airplane maintenance records, and, depending on the results, one-time detailed and ultrasonic inspections of the affected parts and applicable corrective actions, as specified in a European Aviation Safety Agency (EASA) AD, which is incorporated by reference. The FAA is issuing this AD to address the unsafe condition on these products.

DATES: This AD is effective September 19, 2019.

The Director of the Federal Register approved the incorporation by reference of a certain publication listed in this AD as of September 19, 2019.

ADDRESSES: For the material incorporated by reference (IBR) in this AD, contact the EASA, at Konrad-Adenauer-Ufer 3, 50668 Cologne, Germany; telephone +49 221 89990 1000; email ADs@easa.europa.eu; internet www.easa.europa.eu. You may find this IBR material on the EASA website at https://ad.easa.europa.eu. You may view this IBR material at the FAA, Transport Standards Branch, 2200 South 216th St., Des Moines, WA. For information on the availability of this material at the FAA, call 206-231-3195. It is also available in the AD docket on the internet at http://www.regulations.gov by searching for and locating Docket No. FAA-2019-0192.

Examining the AD Docket

You may examine the AD docket on the internet at http://www.regulations.gov by searching for and locating Docket No. FAA-2019-0192; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Dan Rodina, Aerospace Engineer, International Section, Transport Standards Branch, FAA, 2200 South 216th St., Des Moines, WA 98198; telephone and fax 206-231-3225.

SUPPLEMENTARY INFORMATION:

Discussion

The FAA issued a notice of proposed rulemaking (NPRM) to amend 14 CFR part 39 by adding an AD that would apply to all Airbus SAS Model A300 B4-600, B4-600R, and F4-600R series airplanes, and Model A300 C4-605R Variant F airplanes (collectively called Model A300-600 series airplanes); and Model A310 series airplanes. The NPRM published in the Federal Register on April 15, 2019 (84 FR 15162). The NPRM was prompted by a determination that a certain AMM task provided instructions for a visual inspection of composite and metallic VTP attachment fittings, but the inspection method did not specify detection of delamination length, which could possibly extend beyond the defined allowable limits. The NPRM proposed to require a review of airplane maintenance records, and, depending on the results, one-time detailed and ultrasonic inspections of the affected parts and applicable corrective actions.

The FAA is issuing this AD to address VTP attachment fittings that could be delaminated beyond allowable limits, which, if not detected and corrected, could lead to failure of the VTP attachment fittings, possibly resulting in loss of control of the airplane.

The EASA, which is the Technical Agent for the Member States of the European Union, has issued EASA AD 2019-0006, dated January 17, 2019 (“EASA AD 2019-0006”) (also referred to as the Mandatory Continuing Airworthiness Information, or “the MCAI”), to correct an unsafe condition for all Airbus SAS Model A300-600 series airplanes and Model A310 series airplanes. The MCAI states:

AMM Task 55-36-11 provides instructions for visual inspection of composite and metallic VTP attachment fittings, and contains detailed information on damage limits. As defined in this AMM task, a composite part delamination is acceptable without further repair. However, as the inspection method included in the AMM does not allow detection of delamination length, this may consequently pass over the allowable limits defined.

This condition, if not detected and corrected, could lead to failure of the VTP attachment fittings, possibly resulting in loss of control of the aeroplane.

Prompted by this potential unsafe condition, Airbus issued the applicable SB [service bulletin] to provide non-destructive test instructions, which allow detection of delaminated area(s) before exceeding the limits.

For the reasons described above, this [EASA] AD requires a review of maintenance records and, depending on the result, a one-time detailed inspection (DET) of the affected parts, followed by an ultrasonic (US) inspection, and, depending on findings, accomplishment of applicable corrective action(s).

You may examine the MCAI in the AD docket on the internet at http://www.regulations.gov by searching for and locating Docket No. FAA-2019-0192.

Comments

The FAA gave the public the opportunity to participate in developing this final rule. The following presents the comment received on the NPRM and the FAA's response to that comment.

Request To Clarify Corrective Action

FedEx requested clarification regarding the corrective action specified in paragraph (3) of EASA AD 2019-0006. FedEx noted that paragraph (3) of EASA AD 2019-0006 directs operators to contact Airbus for corrective action instructions if any discrepancies are detected during the inspections specified in EASA AD 2019-0006. FedEx recommended to revise the proposed AD to state that Airbus should only be contacted for repair instructions if damage or delamination is found outside of the allowable damage limits, as specified in structural repair manual (SRM) 55-30-00 during the inspection specified in paragraph (2) of EASA AD 2019-0006. FedEx reasoned that clarifying the corrective action could allow operators to complete the repairs themselves for damage or delamination that are within the allowable damage limits, and that Airbus would only be contacted if the damage or delamination is outside of the allowable damage limits. FedEx contended that this distinction could potentially reduce costs for operators and limit aircraft out-of-service time.

The FAA partially agrees with request. Paragraph (h)(5) has been added to this AD, which provides clarification to paragraph (3) of EASA AD 2019-0006 by defining discrepancies as any damage or delamination found outside allowable damage limits, which are specified in the inspection tasks in the service information (including reference to SRM 55-30-00).

Conclusion

The FAA reviewed the relevant data, considered the comment received, and determined that air safety and the public interest require adopting this final rule with the change described previously and minor editorial changes. The FAA has determined that these minor changes:

• Are consistent with the intent that was proposed in the NPRM for addressing the unsafe condition; and

• Do not add any additional burden upon the public than was already proposed in the NPRM.

The FAA also determined that these changes will not increase the economic burden on any operator or increase the scope of this final rule.

Related IBR Material Under 1 CFR Part 51

EASA AD 2019-0006 describes procedures for a review of airplane maintenance records, one-time detailed and ultrasonic inspections of the affected parts, and applicable corrective actions. This material is reasonably available because the interested parties have access to it through their normal course of business or by the means identified in the ADDRESSES section.

Costs of Compliance

The FAA estimates that this AD affects 133 airplanes of U.S. registry. The FAA estimates the following costs to comply with this AD:

Estimated Costs for Required Actions
Labor cost | Parts cost | Cost per product | Cost on U.S. operators
Up to 21 work-hours × $85 per hour = Up to $1,785 | $0 | Up to $1,785 | Up to $237,405.

The FAA has received no definitive data that would enable the agency to provide cost estimates for the on-condition actions specified in this AD.

According to the manufacturer, some or all of the costs of this AD may be covered under warranty, thereby reducing the cost impact on affected individuals. The FAA does not control warranty coverage for affected individuals. As a result, the FAA has included all known costs in the cost estimate.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-14-14 Airbus SAS: Amendment 39-19692; FAA-2019-0192; Product Identifier 2019-NM-004-AD.

(a) Effective Date

This AD is effective September 19, 2019.

(b) Affected ADs

None.

(c) Applicability

This AD applies to the airplanes identified in paragraphs (c)(1) and (c)(2) of this AD, certificated in any category, as identified in European Aviation Safety Agency (EASA) AD 2019-0006, dated January 17, 2019 (“EASA AD 2019-0006”).

(1) Airbus SAS Model A300 B4-601, B4-603, B4-620, and B4-622 airplanes, Model A300 B4-605R and B4-622R airplanes, Model A300 F4-605R and F4-622R airplanes, and Model A300 C4-605R Variant F airplanes.

(2) Airbus SAS Model A310-203, -204, -221, -222, -304, -322, -324, and -325 airplanes.

(d) Subject

Air Transport Association (ATA) of America Code 55, Stabilizers.

(e) Reason

This AD was prompted by a determination that a certain aircraft maintenance manual task provided instructions for a visual inspection of composite and metallic vertical tailplane (VTP) attachment fittings, but the inspection method did not specify detection of delamination length, which could possibly extend beyond the defined allowable limits. The FAA is issuing this AD to address this condition, which, if not detected and corrected, could lead to failure of the VTP attachment fittings, possibly resulting in loss of control of the airplane.

(f) Compliance

Comply with this AD within the compliance times specified, unless already done.

(g) Requirements

Except as specified in paragraph (h) of this AD: Comply with all required actions and compliance times specified in, and in accordance with, EASA AD 2019-0006.

(h) Exceptions to EASA AD 2019-0006

For purposes of determining compliance with the requirements of this AD, the following exceptions to EASA AD 2019-0006 apply.

(1) Where EASA AD 2019-006 refers to its effective date, this AD requires using the effective date of this AD.

(2) Replace the language in paragraph (2) of EASA AD 2019-0006 that states “it is determined that the maintenance records are incomplete,” with “maintenance records cannot be used to positively determine that the applicable maintenance actions have been accomplished.”

(3) Replace the language in paragraph (2) of EASA AD 2019-0006 that states “concurrently,” with “before further flight.”

(4) The “Remarks” section of EASA AD 2019-0006 does not apply to this AD.

(5) Where paragraph (3) of EASA AD 2019-0006 refers to “discrepancies” found in the inspection, this AD defines discrepancies as any damage or delamination found outside of specified allowable damage limits.

(i) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (j) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain instructions from a manufacturer, the instructions must be accomplished using a method approved by the Manager, International Section, Transport Standards Branch, FAA; or EASA; or Airbus SAS's EASA Design Organization Approval (DOA). If approved by the DOA, the approval must include the DOA-authorized signature.

(3) Required for Compliance (RC): For any service information referenced in EASA AD 2019-0006 that contains RC procedures and tests: Except as required by paragraph (i)(2) of this AD, RC procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(j) Related Information

For more information about this AD, contact Dan Rodina, Aerospace Engineer, International Section, Transport Standards Branch, FAA, 2200 South 216th St., Des Moines, WA 98198; telephone and fax 206-231-3225.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) European Aviation Safety Agency (EASA) AD 2019-0006, dated January 17, 2019.

(ii) [Reserved]

(3) For EASA AD 2019-0006, contact the EASA, Konrad-Adenauer-Ufer 3, 50668 Cologne, Germany; telephone +49 221 89990 6017; email ADs@easa.europa.eu; internet www.easa.europa.eu. You may find this EASA AD on the EASA website at https://ad.easa.europa.eu.

(4) You may view this EASA AD at the FAA, Transport Standards Branch, 2200 South 216th St., Des Moines, WA. For information on the availability of this material at the FAA, call 206-231-3195. EASA AD 2019-0006 may be found in the AD docket on the internet at http://www.regulations.gov by searching for and locating Docket No. FAA-2019-0192.

(5) You may view this material that is incorporated by reference at the National Archives and Records Administration (NARA). For information on the availability of this material at NARA, call 202-741-6030, or go to: http://www.archives.gov/federal-register/cfr/ibr-locations.html.

Issued in Des Moines, Washington, on July 23, 2019.
Michael Kaszycki,
Acting Director, System Oversight Division, Aircraft Certification Service.

[FR Doc. 2019-17507 Filed 8-14-19; 8:45 am]

BILLING CODE 4910-13-P